ENVIRONMENTAL PROTECTION AGENCY

[FRL-FRL-10020-83-OP]

National Environmental Justice Advisory Council; Notification of Virtual Public Meetings

AGENCY: Environmental Protection Agency (EPA).

ACTION: Notification for a series of public meetings.

SUMMARY: Pursuant to the Federal Advisory Committee Act (FACA), the U.S. Environmental Protection Agency (EPA) hereby provides notice that the National Environmental Justice Advisory Council (NEJAC) will meet on the dates and times described below. All meetings are open to the public. Members of the public are encouraged to provide comments relevant to the specific issues being considered by the NEJAC. For additional information about registering to attend the meeting or to provide public comment, please see “REGISTRATION” under SUPPLEMENTARY INFORMATION. Due to the limit of 500 participants, attendance will be on a first-come, first served basis. Registration is required.

DATES: The NEJAC will hold a series of virtual public meetings on Wednesday, March 24, 2021, Thursday, May 6, 2021, and Thursday, June 17, 2021, from approximately 1:00 p.m. to 7:00 p.m., Eastern Daylight Time each day. The meeting discussions will focus on several topics including, but not limited to, EPA administration transitions priorities, and discussions and deliberations of a charge related to the reuse and revitalization of Superfund and other contaminated sites. A public comment period relevant to the specific issues will be considered by the NEJAC at each meeting (see SUPPLEMENTARY INFORMATION). Members of the public who wish to participate during the public comment period must—register by 11:59 p.m., Eastern Daylight Time, one (1) week prior to each meeting date.

FOR FURTHER INFORMATION CONTACT: Karen L. Martin, NEJAC Designated Federal Officer, U.S. EPA; email: nejac@epa.gov; telephone: (202) 564-0203. Additional information about the NEJAC is available at https://www.epa.gov/environmentaljustice/national-environmental-justice-advisory-council.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.”

Registration: Individual registration is required for each virtual public meeting. Information on how to register is located at https://www.epa.gov/environmentaljustice/national-environmental-justice-advisory-council-meetings. Registration for the meetings and to speak for public comment will close at 11:59 p.m., Eastern Daylight Time, one (1) week prior to meeting date. When registering, please provide your name, organization, city and state, and email address for follow up. Please also indicate whether you would like to provide public comment during the meeting, and whether you are submitting written comments at time of registration.

A. Public Comment

Individuals or groups making remarks during the public comment period will be limited to three (3) minutes. To accommodate the number of people who want to address the NEJAC, only one representative from each community, organization, or group will be allowed to speak. Written comments can also be submitted for the record. The suggested format for individuals providing public comments is as follows: name of speaker; name of organization/community; city and state; and email address; brief description of the concern, and what you want the NEJAC to advise EPA to do. Written comments received by the registration deadline, will be included in the materials distributed to the NEJAC prior to the meeting. Written comments received after that time will be provided to the NEJAC as time allows. All written comments should be sent to Karen L. Martin, EPA, via email at nejac@epa.gov.

B. Information About Services for Individuals With Disabilities or Requiring English language Translation Assistance

For information about access or services for individuals requiring assistance, please contact Karen L. Martin, at (202) 564-0203 or via email at nejac@epa.gov. To request special accommodations for a disability or other assistance, please submit your request at least fourteen (14) working days prior to the meeting, to give EPA sufficient time to process your request. All requests should be sent to the address, email, or phone number listed in the FOR FURTHER INFORMATION CONTACT section.

Matthew Tejada,
Director for the Office of Environmental Justice.

[FR Doc. 2021-04506 Filed 3-4-21; 8:45 am]

BILLING CODE 6560-50-P